ENVIRONMENTAL PROTECTION AGENCY

[ER-FRL-6622-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 260-5076.

An explanation of the ratings assigned to draft environmental impact statements (EISs) was published in FR dated May 18, 2001 (97 FR 27647).

Draft EISs

ERP No. D-DOE-L08055-WA Rating EO2, Kangley—Echo Lake Transmission Line Project, Construct a New 500-kilovolt (kV) Transmission Line, COE Section 10 and 404 Permits, (DOE/EIS-0317), King County, WA.

Summary

EPA expressed objections regarding the project's potential impacts to the Cedar River watershed and to endangered species. EPA requested that the final EIS provide information to fully evaluate these impacts, that it consider a broader range of alternatives, and that it discuss compliance with the Clean Water Act's antidegradation requirement.

ERP No. D-DOE-L09815-00 Rating LO, Fish and Wildlife Implementation Plan, To Implement and Fund a Policy Directions for Fish and Wildlife Mitigation and Recovery, Pacific Northwest, AZ, CA, ID, MT, NV, NM, OR, UT, WY and British Columbia.

Summary

EPA has no objections to the draft EIS. It provides a framework for deciding policy directions, rather than describing the impacts of a particular action or set of actions that will result from the document. Agencies with jurisdiction in the Columbia River Basin will, however, have to individually address Fish and Wildlife recovery plans in stand alone NEPA documents in order to comply with the 2000 Biological Opinion for the Federal Columbia River Power System.

Final EISs

ERP No. F-FHW-H59000-NB, Antelope Valley Study, Implementation of Stormwater Management, Transportation Improvements and Community Revitalization, Major Investment Study, City of Lincoln, Lancaster County, NB.

Summary

No formal comment letter was sent to the preparing agency.

ERP No. F-USA-D11031-MD, Fort George G. Meade Future Development and Operations of a New Administrative and Support Buildings, Anne Arundel and Howard Counties, MD.

Summary

No formal comment letter was sent to preparing agency.

ERP No. FS-JUS-G11010-00, Programmatic—Final Supplemental EIS US Naturalization Service (INS) and US Joint Task Force-Six (JTF-6) Activities Along the US/Mexico Border from Brownsville Texas to San Diego, California.

Summary

EPA offered additional comments on the Final Programmatic EIS to strengthen the NEPA document. EPA asked that its concerns be addressed in the Record of Decision Document or in any subsequent NEPA documents that are tiered to the Programmatic EIS.

Dated: October 9, 2001.
Joseph C. Montgomery,
Director, NEPA Compliance Division, Office of Federal Activities.

[FR Doc. 01-25715 Filed 10-11-01; 8:45 am]

BILLING CODE 6560-50-P